DEPARTMENT OF TRANSPORTATION

Federal Aviation Administration

Notice of Passenger Facility Charge (PFC) Approvals and Disapprovals

AGENCY: Federal Aviation Administration (FAA), DOT.

ACTION: Monthly notice of PFC approvals and disapprovals. In March 2002, there were eight applications approved. This notice also includes information on one application, approved in February 2002, inadvertently left off the February 2002 notice. Additionally, eight approved amendments to previously approved applications are listed.

SUMMARY: The FAA published a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph (d) of § 158.29.

PFC Applications Approved

Public Agency: Mobile Airport Authority, Mobile, Alabama.

Application Number: 02-04-C-00-MOB.

Application Type: Impose and use a PFC.

PFC Level: $3.00.

Total PFC Revenue Approved in This Decision: $3,998,879.

Earliest Charge Effective Date: October 1, 2004.

Estimated Charge Expiration Date: February 1, 2008.

Class of Air Carriers Not Required To Collect PFCS: Air taxi/commercial operators filing FAA Form 1800.31.

Determination: Approved. Based on information contained in the public agency's application, the FAA has determined that the approved class accounts for less than 1 percent of the total annual enplanements at Mobile Regional Airport.

Brief Description of Projects Approved for Collection and Use:

Flight information display system.

Jet bridge.

Escalator.

Public address system.

Baggage belt system.

Roof replacement.

Cooling system upgrade.

Land acquisition.

Install security fence.

Rehabilitate airfield signage.

Passenger loading bridge.

Airfield marking.

Airfield generator.

Interior terminal signs.

Aircraft rescue and firefighting vehicle.

Part 150 noise study update.

Decision Date: February 22, 2002

FOR FURTHER INFORMATION CONTACT: William Schuller, Jackson Airports District Office, (601) 664-9883.

Public Agency: City of San Jose, California.

Application Number: 02-13-C-00-SJC.

Application Type: Impose and use a PFC.

PFC Level: $4.50.

Total PFC Revenue Approved in This Decision: $142,846,000.

Earliest Charge Effective Date: September 1, 2008.

Estimated Charge Expiration Date: May 1, 2011.

Class of Air Carriers Not Required to Collect PFC'S: Nonscheduled/on-demand air carriers filing FAA Form 1800-31.

Determination: Approved. Based on information contained in the public agency's application, the FAA has determined that the approved class accounts for less than 1 percent of the total annual enplanements at San Jose International Airport.

Brief Description of Project Approved for Collection and Use:

Expanded noise attenuation within the 65 CNEL noise contour.

Decision Date: March 1, 2002.

FOR FURTHER INFORMATION CONTACT: Marlys Vandervelde, San Francisco Airports District Office, (650)876-2806.

Public Agency: County of Natrona, Casper, Wyoming.

Application Number: 02-05-C-00-CPR.

Application Type: Impose and use a PFC.

PFC Level: $4.50.

Total PFC Revenue Approved in this Decision: $2,590,000.

Earliest Charge Effective Date: June 1, 2003.

Estimated Charge Expiration Date: November 1, 2011.

Class of Air Carriers Not Required To Collect PFC's: None.

Brief Description of Projects Approved for Collection and Use:

Rehabilitate aircraft parking apron.

Terminal renovation.

Rehabilitate taxiway C.

Brief Description of Project Approved in Part for Collection and Use:

Acquire snow removal equipment.

Determination: The two pick-up snowplows were determined to be in excess of the eligible equipment in the public agency's snow removal plan and, thus, were not approved.

Decision Date: March 1, 2002.

FOR FURTHER INFORMATION CONTACT: Chris Schaffer, Denver Airports District Office, (303) 342-1258.

Public Agency: Lawton Metropolitan Airport Authority, Lawton Oklahoma.

Application Number: 02-03-C-00-LAW.

Application Type: Impose and use a PFC.

PFC Level: $4.50.

Total PFC Revenue Approved in This Decision: $361,000.

Earliest Charge Effective Date: June 1, 2002.

Estimated Charge Expiration Date: June 1, 2004.

Class of Air Carriers Not Required to Collect PFC's: Air taxi/commercial operators operating under Part 135 and filing FAA Form 1800-31.

Determination: Approved. Based on information containd in the public agency's application, the FAA has determined that the approved class accounts for less than 1 percent of the total annual enplanements at Lawton-Ft. Sill Regional Airport.

Brief Description of Projects Approved for Collection and Use:

Develop pavement management system.

PFC application and administrative costs.

Install security perimeter fence.

Construct perimeter road.

Upgrade runway markings.

Runway safety area drainage improvements.

Acquire snow removal equipment.

Construct apron.

Acquire land for airport development.

Decision Date: March 20, 2002.

FOR FURTHER INFORMATION CONTACT: G. Thomas Wade, Southwest Region Airports Division, (817) 222-5613.

Public Agency: San Francisco Airport Commission, San Francisco, California.

Application Number: 02-02-C-00-SFO.

Application Type: Impose and use a PFC.

PFC Level: $4.50.

Total PFC Revenue Approved in This Decision: $224,034,821.

Earliest Charge Effective Date: June 1, 2003.

Estimated Charge Expiration Date: April 1, 2008.

Class of Air Carriers Not Required To Collect PFC'S: Nonscheduled/on-demand air carriers filing FAA Form 1800-31.

Determination: Approved. Based on information contained in the public agency's application, the FAA has determined that the approved class accounts for less than 1 percent of the total annual enplanements at San Francisco International Airport.

Brief Description of Projects Approved for Collection and Use:

Taxiway improvements and realignment, and boarding areas A and G apron construction.

Common use systems (baggage system security screening devices, passenger loading bridges, baggage handling system, gate room podiums and seating).

Decision Date: March 21, 2002.

FOR FURTHER INFORMATION CONTACT: Marlys Vandervelde, San Francisco Airports District Office, (650) 876-2806.

Public Agency: Greater Orlando Aviation Authority, Orlando, Florida.

Application Number: 02-09-C-00-MCO.

Application Type: Impose and use a PFC.

PFC Level: $3.00.

Total PFC Revenue Approved in This Decision: $219,494,000.

Earliest Charge Effective Date: February 1, 2014.

Estimated Charge Expiration Date: February 1, 2017.

Class of Air Carriers Not Required To Collect PFC'S: None.

Brief Description of Projects Approved for Collection and Use:

Landside terminal level 1 modification.

Six bank elevator improvements.

Baggage conveyor system—landside terminal levels 1 and 2.

Central plant improvements, phase 3.

Fourth runway.

Drainage improvements (wildlife attractants mitigation).

Intermodal transit system.

Runway 17/35 pavement joint rehabilitation.

Satellite aircraft rescue and firefighting facility.

800 MHz radio system—digital upgrade.

Baggage sorting system upgrade.

Taxiway lighting improvements.

Mobile command post.

Surface movement guidance control system.

Automated guideway transit program rehabilitation.

Emergency operations center.

Aircraft rescue and firefighting vehicles.

Decision Date: March 26, 2002.

FOR FURTHER INFORMATION CONTACT: Bud Jackman, Orlando Airports District Office, (407) 812-6331, ext. 22.

Public Agency: City of Chicago—Department of Airports, Chicago, Illinois.

Application Number: 02-13-U-00-ORD.

Application Type: Use PFC revenue.

PFC Level: $3.00.

Total PFC Revenue Approved in This Decision: $53,000,000.

Earliest Charge Effective Date: May 1, 2008.

Estimated Charge Expiration Date: June 1, 2003.

Class of Air Carriers Not Required To Collect PFC'S: No change from previous decision.

Brief Description of Project Approved for Use:

Touhy Avenue Reservoir.

Decision Date: March 26, 2002.

FOR FURTHER INFORMATION CONTACT: Philip M. Smithmeyer, Chicago Airports District Office, (847) 294-7335.

Public Agency: Jackson County, Medford, Oregon.

Application Number: 02-07-C-00-MFR.

Application Type: Impose and use a PFC.

PFC Level: $4.50.

Total PFC Revenue Approved in This Decision: $816,466.

Earliest Charge Effective Date: June 1, 2003.

Estimated Charge Expiration Date: May 1, 2004.

Class of Air Carriers Not Required To Collect PFC's: Operations by air taxi/commercial operators when enplaning revenue passengers in limited, irregular, special service air taxi/commercial operations such as air ambulance services, student instruction, non-stop sightseeing flights that begin and end at the airport and are concluded within a 25-mile radius of the airport and other similar limited, irregular, special service operations by such air taxi/commercial operators.

Determination: Approved. Based on information contained in the public agency's application, the FAA has determined that each approved class accounts for less than 1 percent of the total annual enplanements at Rogue Valley International—Medford Airport.

Brief Description of Projects Approved for Collection and Use:

Realignment and rehabilitation of taxiway A.

Terminal Area plan (planning study).

Decision Date: March 27, 2002.

FOR FURTHER INFORMATION CONTACT: Suzanne Lee-Pang, Seattle Airports District Office, (425) 227-2654.

Public Agency: Gulfport-Biloxi Regional Airport Authority, Gulfport, Mississippi.

Application Number: 02-05-C-00-GPT.

Application Type: Impose and use a PFC.

PFC Level: $3.00.

Total PFC Revenue Approved in This Decision: $3,765,993.

Earliest Charge Effective Date: June 1, 2002.

Estimated Charge Expiration Date: June 1, 2005.

Class of Air Carriers Not Required To Collect PFC's: None.

Brief Description of Projects Approved for Collection and Use:

Land acquisition, runway protection zone, runways 14, 18, and 36.

Blast study.

Clear, grub, and preserve Padgett and Cuevas property.

Upgrade closed circuit television, security improvements for terminal, general aviation, and cargo areas.

Acquire explosives detection dog.

Construct perimeter road—schedule B (north).

Rehabilitation perimeter fence security improvements.

South central cargo area expansion road, utilities, and site work.

Construct south west general aviation area, phase II.

Terminal expansion—baggage claim area, federal inspection service, baggage search area at ticket counters, and security screening.

Conduct pavement condition index update, all taxiways, ramps, and runway 18/30.

Decision Date: March 28, 2002.

FOR FURTHER INFORMATION CONTACT: Patrick D. Vaught, Jackson Airports District Office, (601) 664-9885.

Amendments to PFC Approvals

Amendment No., City, State | Amendment approved date | Original approved net PFC revenue | Amended approved net PFC revenue | Original estimated charge exp. date | Amended estimated charge exp. date
00-06-C-01-COS, Colorado Springs, CO | 01/29/02 | $6,764,710 | $8,441,519 | 04/01/03 | 09/01/03
*99-02-C-01-CID, Cedar Rapids, IA | 03/06/02 | $4,210,583 | $4,210,583 | 02/01/04 | 12/01/03
99-03-C-01-LBB, Lubbock, TX | 03/15/02 | $4,527,023 | $4,275,774 | 08/01/02 | 09/01/02
*00-04-C-01-TPA, Tampa, FL | 03/22/02 | $124,728,400 | $133,732,200 | 10/01/07 | 07/01/06
*92-01-I-04-BWI, Baltimore, MD | 03/26/02 | $225,826,453 | $225,826,453 | 10/01/02 | 11/01/02
94-02-C-01-BWI, Baltimore, MD | 03/26/02 | NA | NA | 04/01/09 | 04/01/09
95-03-U-01-BWI, Baltimore, MD | 03/26/02 | NA | NA | 04/01/09 | 04/01//09
*00-01-C-01-VPS, Valparaiso, FL | 03/28/02 | $38,358,314 | $34,278,718 | 07/01/28 | 11/01/19
(Note: The amendments denoted by an asterisk (*) include a change to the PFC level charged from $3.00 per enplaned passenger to $4.50 per enplaned passenger. For Cedar Rapids, IA, this change is effective on May 1, 2002. For Tampa, FL, Valparaiso, FL, and Baltimore, MD, this change is effective on June 1, 2002.

Issued in Washington, DC on May 24, 2002.
Barry Molar,
Manager, Airports Financial Assistance Division.

[FR Doc. 02-13711 Filed 5-30-02; 8:45 am]

BILLING CODE 4910-13-M